ENVIRONMENTAL PROTECTION AGENCY

[FRL-9108-5; Docket ID No. EPA-HQ-ORD-2009-0613]

Exposure Factors Handbook: 2009 Update

AGENCY: Environmental Protection Agency (EPA).

ACTION: Notice of Peer-Review Workshop.

SUMMARY: EPA is announcing that Eastern Research Group, Inc. (ERG), an EPA contractor for external scientific peer review, will convene an independent panel of experts and organize and conduct an external peer-review workshop on March 3-4, 2010, to review the external review draft document titled, “Exposure Factors Handbook 2009 Update” (EPA/600/R-09/052A). EPA previously announced the 60-day public comment period (ending December 7, 2009) for the draft document in the Federal Register on October 7, 2009 (74 FR 51592). The draft document was prepared by the National Center for Environmental Assessment (NCEA) within EPA's Office of Research and Development. The Exposure Factors Handbook provides information on various physiological and behavioral factors commonly used in assessing exposure to environmental chemicals. The handbook was first published in 1989 and was updated in 1997. This updated version incorporates data available since 1997 up to June 2009. It also reflects the revisions made to the Child-Specific Exposure Factors Handbook, which was updated and published in 2008. Each chapter in the revised Exposure Factors Handbook presents recommended values for the exposure factors covered in the chapter as well as a discussion of the underlying data used in developing the recommendations.

The public comment period and the external peer-review workshop are separate processes that provide opportunities for all interested parties to comment on the document. EPA intends to forward public comments submitted in accordance with the October 7, 2009, Federal Register notice (74 FR 51592) to ERG, for consideration by the external peer-review panel prior to the workshop. EPA will consider public comments and recommendations from the expert panel workshop as EPA finalizes the draft document.

EPA is releasing this draft document solely for the purpose of pre-dissemination peer review under applicable information quality guidelines. This document has not been formally disseminated by EPA. It does not represent and should not be construed to represent any Agency policy or determination.

ERG invites the public to register to attend this workshop as observers. In addition, ERG invites the public to give oral comments at the workshop regarding the draft document under review. Members of the public interested in making oral comments at the workshop should also provide ERG with an electronic copy of their comments. Space is limited, and reservations will be accepted on a first-come, first-served basis. The draft document and EPA's peer-review charge are only available via the Internet on NCEA's home page under the Recent Additions menu at http://www.epa.gov/ncea. In preparing a final report, EPA will consider ERG's report of the comments and recommendations from the external peer-review workshop and any public comments that EPA received.

DATES: The peer-review panel workshop will begin on Wednesday, March 3, 2010, at 8 a.m., and will end on Thursday, March 4, 2010, at approximately 12 p.m. Eastern Standard Time.

ADDRESSES: The peer-review workshop will be held at the Sheraton Crystal City Hotel, 1800 Jefferson Davis Highway, Arlington, VA 22202. The EPA contractor, ERG, is organizing, convening, and conducting the peer-review workshop. To attend the workshop, register by February 24, 2010, by calling ERG at 781-674-7374 or toll free at 800-803-2833 (ask for the EFH peer-review coordinator, Laurie Waite). You may register via the Internet at https://www2.ergweb.com/projects/conferences/peerreview/register-efh.htm, or by sending a facsimile to 781-674-2906 (please reference: “EFH peer-review workshop” and include your name, title, affiliation, full address, and contact information). Please indicate if you would like to make oral comments at the workshop. You may also register by sending an e-mail to meetings@erg.com (subject line: “EFH peer-review workshop” and include your name, title, affiliation, full address, and contact information). Please indicate if you would like to make oral comments at the workshop. The draft “Exposure Factors Handbook: 2009 Update” is only available via the Internet on the National Center for Environmental Assessment's home page under the Recent Additions menu at http://www.epa.gov/ncea. No printed copies are available because of the size of the document.

Information on Services for Individuals with Disabilities: EPA welcomes public attendance at the “Exposure Factors Handbook: 2009 Update” peer-review workshop and will make every effort to accommodate persons with disabilities. For information on access or services for individuals with disabilities, please contact ERG, 110 Hartwell Avenue, Lexington, MA 02421-3136; telephone: 781-674-7374; facsimile: 781-674-2906; or e-mail: meetings@erg.com (subject line: EFH peer-review workshop), preferably at least 10 days prior to the meeting, to give as much time as possible to process your request.

FOR FURTHER INFORMATION CONTACT: Questions regarding information, registration, access or services for individuals with disabilities, or logistics for the external peer-review workshop should be directed to ERG, 110 Hartwell Avenue, Lexington, MA 02421-3136; telephone: 781-674-7374; facsimile: 781-674-2906; or e-mail: meetings@erg.com (subject line: EFH peer-review workshop). To request accommodation of a disability, please contact Laurie Waite at ERG (contact information above), preferably at least 10 days prior to the workshop, to give as much time as possible to process your request. If you have questions about the document, please contact Jacqueline Moya, National Center for Environmental Assessment (NCEA), 1200 Pennsylvania Ave, NW., 8601P, Washington, DC 20460; telephone: 703-347-8539; facsimile: 703-347-8496; or e-mail: moya.jacqueline@epa.gov.

SUPPLEMENTARY INFORMATION:

I. Information About the Document

The Exposure Factors Handbook provides a summary of the available statistical data on various factors used in assessing human exposure. This Handbook is aimed at exposure assessors inside the Agency as well as those outside who use data on standard factors to calculate human exposure to toxic chemicals. These factors include: Drinking water consumption; mouthing behavior; soil ingestion rates; inhalation rates; dermal factors, including skin area and soil adherence factors; consumption of fruits and vegetables, fish, meats, dairy products, and homegrown foods; breast milk intake; human activity factors; consumer product use; and residential characteristics. Recommended values are for the general population and also for various segments of the population who may have characteristics different from the general population.

Dated: January 26, 2010.
Rebecca Clark,
Acting Director, National Center for Environmental Assessment.

[FR Doc. 2010-2155 Filed 2-1-10; 8:45 am]

BILLING CODE 6560-50-P